ENVIRONMENTAL PROTECTION AGENCY

40 CFR Part 300

[FRL-6893-3]

National Oil and Hazardous Substances Pollution Contingency Plan; National Priorities List Update

AGENCY: Environmental Protection Agency.

ACTION: Notice of deletion of the Publicker Industries Inc. Superfund Site from the National Priorities List (NPL).

SUMMARY: The Environmental Protection Agency (EPA) announces the deletion of the Publicker Industries Inc. Superfund Site (Site) in Philadelphia, Pennsylvania from the National Priorities List (NPL). The NPL constitutes Appendix B of 40 CFR Part 300 which is the National Oil and Hazardous Substances Pollution Contingency Plan (NCP), which EPA promulgated pursuant to section 105 of the Comprehensive Environmental Response, Compensation, and Liability Act of 1980 (CERCLA), as amended. EPA and the Commonwealth of Pennsylvania, through the Pennsylvania Department of Environmental Protection, have determined that the remedial action for the Site has been successfully implemented under CERCLA. For this Site, the selected remedy is protective of human health and the environment as long as the property is used only for industrial purposes.

EFFECTIVE DATE: November 1, 2000.

ADDRESSES: Comprehensive information on this Site is available for viewing at the repository at the following location: U.S. Environmental Protection Agency, Region III, Regional Center for Environmental Information, 1650 Arch Street, Philadelphia, Pennsylvania 19103. Telephone (215) 814-5254.

FOR FURTHER INFORMATION CONTACT: Kristine Matzko(3HS21), U.S. Environmental Protection Agency, Region III, 1650 Arch Street, Philadelphia, PA 19103. Telephone 215-814-5719.

SUPPLEMENTARY INFORMATION: The site to be deleted from the NPL is: Publicker Industries Inc. Superfund Site.

EPA published a Notice of Intent to Delete (NOID) the Publicker Industries Inc. Superfund Site from the NPL on July 20, 2000 in the Federal Register (65 FR 45013). The closing date for comments on the NOID was August 21, 2000. EPA did not receive any comments on the proposed deletion. Therefore, no responsiveness summary is necessary for attachment to this Notice of Deletion.

EPA identifies sites that appear to present a significant risk to public health, welfare, or the environment and it maintains the NPL as the list of these sites. As described in § 300.425(e)(3) of the NCP, sites deleted from the NPL remain eligible for remedial actions in the unlikely event that future conditions at the site warrant such action.

Deletion of a site from the NPL does not affect responsible party liability or impede EPA efforts to recover costs associated with response efforts.

List of Subjects in 40 CFR Part 300

Environmental protection, Air pollution control, Chemicals, Hazardous substances, Hazardous waste, Intergovernmental relations, Penalties, Reporting and recordkeeping requirements, Superfund, Water pollution control, and Water supply.

Dated: October 6, 2000.
Bradley M. Campbell,
Regional Administrator, U.S. EPA Region III.

For the reasons set out in the preamble, 40 CFR Part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of Appendix B to part 300 is amended by removing the site for “Publicker Industries Inc.,” Philadelphia, Pennsylvania.

[FR Doc. 00-27780 Filed 10-31-00; 8:45 am]

BILLING CODE 6560-50-P